DEPARTMENT OF HEALTH AND HUMAN SERVICES

National Institutes of Health

Center for Scientific Review; Amended Notice of Meeting

Notice is hereby given of a change in the meeting of the Center for Scientific Review Special Emphasis Panel, June 23, 2006, 11 a.m. to June 23, 2006, 6 p.m., Doubletree Hotel and Executive Meeting Center, 8120 Wisconsin Avenue, Bethesda, MD 20814 which was published in the Federal Register on May 16, 2006, 71 FR 28363-28365.

The meeting will be held at the Carlyle Suites, 1731 New Hampshire Avenue, NW., Washington, DC 20009. The meeting date and time remain the same. The meeting is closed to the public.

Dated: June 1, 2006.
Anna Snouffer,
Acting Director, Office of Federal Advisory Committee Policy.

[FR Doc. 06-5254 Filed 6-8-06; 8:45 am]

BILLING CODE 4140-01-M